DEPARTMENT OF THE INTERIOR

Fish and Wildlife Service

[FWS-R2-ES-2013-N064; FXES11130200000-134-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. The Act and the National Environmental Policy Act also require that we invite public comment before issuing these permits.

DATES: To ensure consideration, written comments must be received on or before May 6, 2013.

ADDRESSES: Marty Tuegel, Section 10 Coordinator, by U.S. mail at Division of Endangered Species, U.S. Fish and Wildlife Service, P.O. Box 1306, Room 6034, Albuquerque, NM, at 505-248-6920. Please refer to the respective permit number for each application when submitting comments.

FOR FURTHER INFORMATION CONTACT: Susan Jacobsen, Chief, Endangered Species Division, P.O. Box 1306, Albuquerque, NM 87103; 505-248 -6651.

SUPPLEMENTARY INFORMATION:

Public Availability of Comments

The Act (16 U.S.C. 1531 et seq.) prohibits activities with endangered and threatened species unless a Federal permit allows such activities. Along with our implementing regulations in the Code of Federal Regulations (CFR) at 50 CFR part 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies, and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-94344A

Applicant: Shannon Bird, Carrolton, Texas.

Applicant requests a new permit for research and recovery purposes to conduct presence/absence surveys of American burying beetle (Nicrophorus americanus) within Arkansas, Oklahoma, Texas, South Dakota, and Kansas.

Permit TE-216075

Applicant: Martin Heaney, Rosenberg, Texas.

Applicant requests an amendment to a current permit for research and recovery purposes to conduct presence/absence surveys of Indiana bat (Myotis sodalis) and gray bat (Myotis grisenscens) within Texas.

Permit TE-94689A

Applicant: Joseph Quick, Tuscola, Texas.

Applicant requests a new permit for research and recovery purposes to conduct presence/absence surveys of golden-cheeked warblers (Dendroica chrysoparia), interior least terns (Sterna antillarum), and black-capped vireos (Vireo atricapilla) within Texas.

Permit TE-800611

Applicant: SWCA Inc., San Antonio, Texas.

Applicant requests an amendment to a current permit for research and recovery purposes to conduct presence/absence surveys of and temporary hold and collect the following species in Landa Lake, Comal County, Texas:

• Comal Springs dryopid beetle (Stygoparnus comalensis)

• Comal Springs riffle beetle (Heterelmis comalensis)

• Fountain darter (Etheostoma fonticola)

• Peck's Cave amphipod (Stygobromus pecki)

• Texas blind salamander (Typhlomolge rathbuni)

• Southwestern willow flycatcher (Empidonax traillii extimus)—all of Texas

• Whooping crane (Grus americana)—all of Texas

Permit TE-94739A

Applicant: Travis Audubon Society, Austin, Texas.

Applicant requests a new permit for research and recovery purposes to conduct presence/absence surveys of golden-cheeked warbler (Dendroica chrysoparia) within Texas.

Permit TE-94746A

Applicant: Lee Rex McAliley, Abilene, Texas.

Applicant requests a new permit for research and recovery purposes to conduct presence/absence surveys of interior least tern (Sterna antillarum), black-capped vireo (Vireo atricapilla), and golden-cheeked warbler (Dendroica chrysoparia) within Texas.

Permit TE-95666A

Applicant: Ilyse Gold, Hesperus, Colorado.

Applicant requests a new permit for research and recovery purposes to conduct presence/absence surveys southwestern willow flycathcher (Empidonax traillii extimus), Knowlton's cactus (Pediocactus knowltonii), and Mancos milk-vetch (Astragalus humillimus) within New Mexico, Colorado, Utah, and Arizona.

Permit Application Number: TE-125620

Applicant: Burns and McDonnell Engineering, Kansas City, Missouri.

Applicant requests an amendment to a current permit for research and recovery purposes to capture and release American burying beetles (Nicrophorus americanus) for presence/absence surveys in Oklahoma.

Permit TE-97824A

Applicant: Smith Environmental Research and Consulting House, Siloam Springs, Arkansas.

Applicant requests a new permit for research and recovery purposes to conduct presence/absence surveys of American burying beetle (Nicrophorus americanus) within Arkansas, Kansas, Missouri, Nebraska, Oklahoma, South Dakota, and Texas.

Permit TE-082492

Applicant: Charles Hathcock, Los Alamos, New Mexico.

Applicant requests a renewal to a current permit for research and recovery purposes to conduct presence/absence surveys of southwestern willow flycatcher (Empidonax traillii extimus) within New Mexico.

Permit TE-819491

Applicant: Ecosphere Environmental Services, Durango, Colorado.

Applicant requests an amendment to a current permit for research and recovery purposes to conduct presence/absence surveys of southwestern willow flycatcher (Empidonax traillii extimus) within Utah and black-footed ferret (Mustela nigripes) within Wyoming, New Mexico, Colorado, Utah, and Arizona.

Permit TE-97830A

Applicant: United States Fish and Wildlife Service, Ozark Plateau National Wildlife Refuge, Colcord, Oklahoma.

Applicant requests a new permit for research and recovery purposes to conduct the following activities for Ozark big-eared bat (Corynorhinus townsendii ingens) and Indiana bat (Myotis grisenscens) within the Ozark Plateau National Wildlife Refuge: presence/absence surveys; capture, identify, and release using mist nets and harp traps; collect tissue samples using wing punches, hair samples and/or fungal tape-lift samples; and band using aluminum bat bands.

Permit TE-160521

Applicant: Tetra Tech, Salt Lake City, Utah.

Applicant requests an amendment to a current permit for research and recovery purposes to conduct presence/absence surveys of southwestern willow flycatcher (Empidonax traillii extimus) within Utah, Colorado, New Mexico, and Arizona.

Permit TE-192855

Applicant: Amnis Opes Institute, LLC, Bend, Oregon.

Applicant requests a renewal to a current permit for research and recovery purposes to conduct presence/absence surveys of following species throughout New Mexico, Arizona, and Colorado:

• Colorado pikeminnow (Ptychocheilus lucius)

• Gila chub (Gila intermedia)

• Gila topminnow (Poeciliopsis occidentalis)

• Loach minnow (Tiaroga cobitis)

• Razorback sucker (Xyrauchen texanus)

• Rio Grande silvery minnow (Hybognathus amarus)

• Spikedace (Mega fulgida)

Permit TE-98559A

Applicant: Bat Conservation International, Austin, Texas.

Applicant requests a new permit for research and recovery purposes to conduct presence/absence surveys of, visit cave locations, watch emergences, evaluate foraging habitat, visit drinking sites, and capture lesser long-nosed bats (Leptonycteris nivalis) within Arizona.

Permit TE-207863

Applicant: URS Corporation, Austin, Texas.

Applicant requests a renewal to a current permit for research and recovery purposes to conduct presence/absence surveys of golden-cheeked warbler (Dendroica chrysoparia), black-capped vireo (Vireo atricapilla), and Houston toad (Bufo houstonensis) within Texas and Oklahoma.

Permit TE-98622A

Applicant: University of Texas-Pan American, South Padre Island, Texas.

Applicant requests a new permit for sea turtle stranding activities, transport, and holding of the following endangered sea turtles in Texas:

• Kemp's ridley (Lepidochelys kempii)

• Leather back (Dermochelys coriacea)

• Hawksbill (Eretmochelys imbricata)

Permit TE-98704A

Applicant: Dogs for Conservation, Washington, Texas.

Applicant requests a new permit for research and recovery purposes to hold capitvely bred Houston toads (Bufo houstonensis) from the Houston Zoo for work with training dogs how to detect Houston toads in the wild. Toads will be held at the trainer's facility and used to train dogs to detect scent in the wild. Toads will be returned to the zoo once the training is complete.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority: We provide this notice under section 10 of the Act (16 U.S.C. 1531 et seq.)

Dated: March 21, 2013.
Joy E. Nicholopoulos,
Acting Regional Director, Southwest Region.

[FR Doc. 2013-07767 Filed 4-3-13; 8:45 am]

BILLING CODE 4310-55-P